FEDERAL COMMUNICATIONS COMMISSION

Notice of Public Information Collection(s) Being Reviewed by the Federal Communications Commission

April 8, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a current valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 17, 2002. If you anticipate that you will be submitting comments, but find it difficult to do so within the period of time allowed by this notice, you should advise the contact listed below as soon as possible.

ADDRESSES: Direct all comments to Les Smith, Federal Communications Commission, Room 1-A804, 445 12th Street, SW, Washington, DC 20554, or via the Internet to lesmith@fcc.gov.

FOR FURTHER INFORMATION CONTACT: For additional information or copies of the information collection(s) contact Les Smith at 202-418-0217 or via the Internet at lesmith@fcc.gov.

SUPPLEMENTARY INFORMATION: OMB Control Number: 3060-0674.

Title: Section 76.931, Notification of Basic Tier Availability, and Section 76.932, Notification of Proposed Rate Increase.

Form Number: N/A.

Type of Review: Extension of currently approved collection.

Respondents: Business or other for-profit entities.

Number of Respondents: 11,365.

Estimated Time per Response: 2.25 hours.

Frequency of Response: On occasion reporting requirements; Third party disclosure.

Total Annual Burden: 25,572 hours.

Total Annual Costs: None.

Needs and Uses: 47 CFR 76.931 requires each cable operator to provide written notification to subscribers of the availability of basic tier service by November 30, 1993, or three billing cycles from September 1, 1993, and to new subscribers at the time of installation. This notification is to include: (a) What basic tier service is available; (b) cost per month for basic tier service; and (c) list of all services included in the basic service tier. 47 CFR 76.932 requires each cable operator to provide written notice to subscribers of any increase in the price to be charged for the basic service tier or associated equipment at least thirty days before any proposed increase is effective.

OMB Control Number: 3060-0888.

Title: Part 76, Cable Television Service Pleading and Complaint Rules.

Form Number: N/A.

Type of Review: Extension of currently approved collection.

Respondents: Business or other for-profit entities; Individuals or households.

Number of Respondents: 400.

Estimated Time per Response: 4 to 40 hours.

Total Annual Burden: 8,800 hours.

Total Annual Costs: $1,204,000.

Needs and Uses: On January 8, 1999, the Commission released a Report and Order (R&O), In the matter of the 1998 Biennial Regulatory review; Part 76 Cable Television Service Pleading and Complaint Rules. This proceeding was initiated in conjunction with the Commission's 1998 Biennial Regulatory Review pursuant to section 11 of the Telecommunications Act of 1996. The R&O adopted rules to eliminate redundant requirements, to expand the types of submissions for petitions for special relief, to standardize filing procedures for finding effective competition, and to establish standard provisions for uniform filing formats, deadlines, and other procedural requirements for pleadings, i.e., waivers, enforcement, show cause, forfeiture, and declaratory ruling procedures, filed under 47 CFR part 76 of the Commission's Rules.

OMB Control Number: 3060-1008.

Title: Reallocation and Service Rules for the 698-746 MHz Band (TV Channels 52-59).

Form Number: N/A.

Type of Review: Extension of a currently approved collection.

Respondents: Business or other for-profit entities; and State, Local or Tribal Government.

Number of Respondents: 734.

Frequency of Response: Recordkeeping; On occasion reporting requirement, Third party disclosure requirement.

Total Annual Burden: 367 hours.

Total Annual Cost: None.

Needs and Uses: On December 12, 2001, the FCC adopted a Final Rule in GN Docket No. 01-74, FCC 01-364, Reallocation and Service Rules for the 698-746 MHz Spectrum Band (Television Channels 52-59). Following a Congressional mandate that the FCC auction off the Lower 700 MHz Band (698-746 MHz) spectrum by September 30, 2002, the FCC adopted allocation and service rules for this spectrum band and scheduled the spectrum auction for June 19, 2002, see Public Notice, DA 02-2002 (January 24, 2002). The Report and Order supports the development of new services in the Lower 700 MHz Band and also protects existing television operations that occupy the band throughout the transition to digital television. Under 47 CFR 27.50(c)(5), licensees that intend to operate a base or fixed station at a power level greater than 1 kW ERP must issue a public notice (which includes the station's location and operating parameters, the ERP, antenna coordinates, antenna height above ground, and vertical antenna pattern) at least 90 days prior to commencing station operations to the FCC and to all authorized licensees that operate a base or fixed station on an adjacent spectrum block at a location within 75 kms of the based or fixed station operating at a power level greater than 1 kW ERP.

OMB Control Number: 3060-0798.

Title: FCC Application for Wireless Telecommunications Bureau Radio Service Authorization.

Form Number: FCC 601.

Type of Review: Extension of a currently approved collection.

Respondents: Business or other for-profit entities; Not-for-profit institutions; Individuals or households; and State, Local or Tribal governments.

Number of Respondents: 241,335.

Estimated Time per Response: 0.5 to 1.25 hours.

Frequency of Response: On occasion and 10 year annual reporting requirements; Third party disclosure.

Total Annual Burden: 211,169 hours.

Total Annual Cost: $48,267,100.

Needs and Uses: FCC Form 601 is a consolidated, multi-part application or “long form” for market-based licensing and site-by-site licensing in the Wireless Telecommunications Bureau's (WTB) Radio Services' Universal Licensing System (ULS). On December 12, 2001, the FCC adopted a Final Rule in GN Docket No. 01-74, FCC 01-364, Reallocation and Service Rules for the 698-746 MHz Spectrum Band (Television Channels 52-59). Pursuant to adoption of the Report and Order, the FCC has revised Form 601, which will be used to determine the basic eligibility and qualifications of auction winners to become licensees. Form 601 was also revised to ease the filing burden for applicants and others who used the form by making various other changes, i.e., correcting mailing and web site addresses, removing the Taxpayer Identification Number, and making other miscellaneous edits.

OMB Control Number: 3060-0706.

Title: Cable Act Reform.

Form Number: N/A.

Type of Review: Extension of currently approved collection.

Respondents: Business or other for-profit entities.

Number of Respondents: 950.

Estimated Time per Response: 1 to 8 hours.

Frequency of Response: On occasion reporting requirements; Third party disclosure.

Total Annual Burden: 3,900.

Total Annual Costs: $4,000.

Needs and Uses: On March 29, 1999, the FCC released a Report and Order (R&O), FCC 99-57, which further amended the Commission's cable television rules pursuant to the Telecommunications Act of 1996. With this R&O, the FCC has accounted for various requirements in its rules not already accounted for in the initial and final rules. The regulations serve a variety of purposes for subscribers, cable operators, franchising authorities, and the FCC, i.e., 47 CFR 76.952 requires a cable operator to include the franchising authority contact information in a subscriber's monthly billing statement; 47 CFR 76.990 requires a cable operator to certify in writing to the franchising authority that it qualifies as “small cable operator;” and 47 CFR 76.1404 requires a local exchange carrier to file contract information with the FCC to determine whether its use of a cable operator's facilities is reasonably limited in scope and duration.

OMB Control Number: 3060-0742.

Title: Telephone Number Portability (47 CFR part 52, subpart C, sections 52.21-52.33) and CC Docket No. 95-116.

Form Number: N/A.

Type of Review: Revision to a currently approved collection.

Respondents: Business or other for-profit entities.

Number of Respondents: 1,858.

Estimated Time per Response: 7.34 hours (avg).

Frequency of Response: Recordkeeping; On occasion and annual reporting requirements; Third Party Disclosure.

Total Annual Burden: 13,634 hours.

Total Annual Cost: $76,635.

Needs and Uses: 47 CFR 52.21-52.33 implement the requirements that local exchange carriers (LECs) provide number portability. In a Memorandum, Opinion, and Order on Reconsideration issued in CC Docket No. 95-116, the FCC implemented new and/or modified regulations that require each multi-region carrier to calculate its share of local number portability (LNP) administration costs. Any carrier that cannot divide its revenue by LNP region but chooses to allocate such revenue by subscriber percentages must file a certification with the FCC. To ensure that if a non-LNP capable incumbent LEC, participating in an extended area service calling plan with an LNP-capable carrier, complies with LNP cost recovery law and rules, the carrier must file a tariff with the FCC, if the carrier seeks to recover its query and LNP administration costs.

OMB Control Number: 3060-0395.

Title: The ARMIS USOA Report (ARMIS Report 43-02); The ARMIS Service Quality Report (ARMIS Report 43-05); The ARMIS Infrastructure Report (ARMIS Report 43-07).

Form Numbers: FCC Reports 43-02, 43-05, and 43-07.

Type of Review: Extension of a currently approved collection.

Respondents: Business or other for-profit entities.

Number of Respondents: 50.

Estimated Time per Response: 587.3 hours (avg).

Frequency of Response: Recordkeeping; Annual reporting requirement.

Total Annual Burden: 29,366 hours.

Total Annual Cost: None.

Needs and Uses: Under section 220 of the Communications Act of 1934, as amended, 47 USC 220, FCC may prescribe the forms of accounts, records, and memoranda of the movement of traffic, receipts, and expenditures of monies to be kept by carriers subject to this Act. Section 219(b) of the Communications Act of 1934, as amended, 47 USC 219(b), requires any carrier subject to this Act to file monthly earnings and expense reports and periodical and/or special reports concerning all other matters with the FCC, as authorized by 47 CFR 43.21. ARMIS was implemented to facilitate the timely and efficient analysis of revenue requirements, rates of return, and price caps; to provide an improved basis for audits and other oversight functions; and to enhance the Commission's ability to quantify the effects of alternative policy.

FCC Report 43-02—The ARMIS 43-02 Report, contains company-wide data for each account specified in the Uniform System of Accounts (“USOA”). It provides the annual operating results of the carriers' activities for every account in the USOA. Mid-sized LECs are not required to file the ARMIS FCC Report 43-02. FCC Report 43-05—The ARMIS 43-05 Report, collects trend data, etc. on holding companies and on service quality levels under price cap regulations, i.e., interexchange access service installation and repair intervals, local service installation and repair intervals, trunk blockage, and total switch downtime for price cap companies. FCC Report 43-07—The ARMIS 43-07 Report, captures trends in telephone industry infrastructure development under price cap regulation, i.e., switch deployment and capabilities data.

OMB Control Number: 3060-0511.

Title: ARMIS Access Report.

Form Number: FCC Report 43-04.

Type of Review: Extension of a currently approved collection.

Respondents: Business or other for-profit entities.

Number of Respondents: 121.

Frequency of Response: Annual reporting requirement.

Estimated Time per Response: 157 hours (avg).

Total Annual Burden: 18,997 hours.

Total Annual Cost: None.

Needs and Uses: Under section 220 of the Communications Act of 1934, as amended, 47 U.S.C. 220, FCC may prescribe the forms of accounts, records, and memoranda of the movement of traffic, receipts, and expenditures of monies to be kept by carriers subject to this Act. Section 219(b) of the Communications Act of 1934, as amended, 47 U.S.C. 219(b), requires any carrier subject to this Act to file monthly earnings and expense reports and periodical and/or special reports concerning all other matters with the FCC, as authorized by 47 CFR 43.21. ARMIS was implemented to facilitate the timely and efficient analysis of revenue requirements, rates of return, and price caps; to provide an improved basis for audits and other oversight functions; and to enhance the Commission's ability to quantify the effects of alternative policy. The ARMIS 43-04 Report monitors revenue requirements, joint cost allocations, jurisdictional separations, and access charges. Mid-sized carriers are not required to file the FCC Report 43-04.

OMB Control Number: 3060-0513.

Title: ARMIS Joint Cost Report.

Form Number: FCC Report 43-03.

Type of Review: Extension of a currently approved collection.

Respondents: Business or other for-profit entities.

Number of Respondents: 121.

Estimated Time per Response: 83 hours (avg).

Frequency of Response: Annually.

Total Annual Burden: 10,043 hours.

Total Annual Cost: None.

Needs and Uses: Under section 220 of the Communications Act of 1934, as amended, 47 U.S.C. 220, FCC may prescribe the forms of accounts, records, and memoranda of the movement of traffic, receipts, and expenditures of monies to be kept by carriers subject to this Act. Section 219(b) of the Communications Act of 1934, as amended, 47 U.S.C. 219(b), requires any carrier subject to this Act to file monthly earnings and expense reports and periodical and/or special reports concerning all other matters with the FCC, as authorized by 47 CFR 43.21. ARMIS was implemented to facilitate the timely and efficient analysis of revenue requirements, rates of return, and price caps; to provide an improved basis for audits and other oversight functions; and to enhance the Commission's ability to quantify the effects of alternative policy. The ARMIS 43-03 Report is used to administer the FCC's joint cost rules and to analyze data to prevent cross-subsidization of nonregulated operations by the regulated operations of Tier 1 carriers. Mid-sized carriers are not required to file FCC Report 43-03 on April 1, 2002.

OMB Control Number: 3060-0855.

Title: Telecommunications Reporting Worksheet and Associated Requirements, CC Docket No. 96-45.

Form Number: FCC Form 499 (FCC Forms 499-A and 499-Q).

Type of Review: Extension of a currently approved collection.

Respondents: Business or other for-profit entities.

Number of Respondents: 5,500.

Estimated Time per Response: 15 hours (avg).

Frequency of Response: Recordkeeping; On occasion, quarterly, and annually reporting requirements; Third party disclosure.

Total Annual Burden: 82,487 hours.

Total Annual Cost: $14,000.

Needs and Uses: Pursuant to the Communications Act of 1934, as amended, telecommunications carriers (and certain other providers of telecommunications services) must contribute to the support and cost recovery mechanisms for telecommunications relay services, numbering administration, number portability, and universal service. Respondents file their gross-billed end-user telecommunications revenues on a quarterly basis on FCC Form 499-Q, and on an annual basis on FCC Form 499-A. Carriers are permitted to consolidate filing if the filing entity certifies that certain conditions have been met.

Federal Communications Commission.
William F. Caton,
Acting Secretary.

[FR Doc. 02-9279 Filed 4-16-02; 8:45 am]

BILLING CODE 6712-01-P